DEPARTMENT OF COMMERCE

National Oceanic and Atmospheric Administration

[Docket No. 060725202-6202- I.D. No. 072006D]

Endangered and Threatened Wildlife; 90-Day Finding for a Petition To List the Cook Inlet Beluga Whale as an Endangered Species

AGENCY: National Marine Fisheries Service (NMFS), National Oceanic and Atmospheric Administration, Commerce.

ACTION: Notice of 90-day petition finding.

SUMMARY: We (NMFS) announce a 90-day finding on a petition to list the Cook Inlet beluga whale as an endangered species under the Endangered Species Act (ESA). We find that the petition presents substantial scientific or commercial information indicating that the petitioned action may be warranted.

DATES: The finding announced in this document was made on August 7, 2006.

ADDRESSES: Requests for copies of the petition should be addressed to NMFS, Protected Resources Division, 709 West 9th Street, Box 21668, Juneau, AK 99802-1668. The petition may also be viewed on our Web site at http://www.fakr.noaa.gov/.

FOR FURTHER INFORMATION CONTACT: Brad Smith, NMFS, 222 West 7th Avenue, Anchorage, AK 99517, telephone (907) 271-5006, fax (907) 271-3030; Kaja Brix, NMFS, (907)586-7235, fax (907) 586-7012; or Marta Nammack, NMFS, (301)713ndash;1401.

SUPPLEMENTARY INFORMATION: On April 20, 2006, we received a petition from Trustees For Alaska to list the Cook Inlet beluga whale as endangered under the ESA. Section 4(b)(3)(A) of the ESA requires, to the maximum extent practicable, that within 90 days of receipt of a petition to designate a species as threatened or endangered, the Secretary of Commerce (Secretary) make a finding on whether that petition presents substantial scientific or commercial information indicating that the petitioned action may be warranted. That finding is to be published promptly in the Federal Register.

In determining whether a petition contains substantial information, we consider information submitted with and referenced in the petition and all other information readily available in our files. We do not conduct additional research at this point, and we subject the petition to critical review. Our ESA implementing regulations at 50 CFR 424.14(b)(1) define "substantial information" as the amount of information that would lead a reasonable person to believe that the measure proposed in the petition may be warranted. If the petition is found to present such information, the Secretary must conduct a status review of the involved species. In making a finding on a petition to list a species, the Secretary must consider whether such a petition (i) clearly indicates the administrative measure recommended and gives the scientific and any common name of the species involved; (ii) contains detailed narrative justification for the recommended measure, describing, based on available information, past and present numbers and distribution of the species involved and any threats faced by the species; (iii) provides information regarding the status of the species over all or a significant portion of its range; and (iv) is accompanied by the appropriate supporting documentation in the form of bibliographic references, reprints of pertinent publications, copies of reports or letters from authorities, and maps (50 CFR 424.14(b)(2)).

The petition submitted by Trustees for Alaska presents substantial evidence in support of their request. The petition states the Cook Inlet population of beluga whales is a “species” under the definition of the ESA, and that NMFS in June 2000 wrote that the Cook Inlet population of beluga whales qualifies as a Distinct Population Segment (DPS, which is a species under the ESA) under the joint NMFS/U.S. Fish and Wildlife policy on the Recognition of Distinct Vertebrate Population Segments under the ESA (61 FR 4722; February 7, 1996). This policy states that a population can be considered a DPS if it is discrete from other conspecific populations and if it is significant to the taxon to which it belongs. The petitioner provides genetic and geographic information to support that the Cook Inlet beluga whale is discrete from other beluga whale populations, as well as rationale for why this population is also significant to the beluga whale species. It is the petitioner's contention that the Cook Inlet beluga whale is in danger of extinction throughout its range, and, therefore, is an endangered species as defined under 16 U.S.C. 1532(6). The petition presents information on the abundance, demographics, and distribution of the Cook Inlet beluga whales, as well as a discussion of the applicability of the ESA section 4(a)(1) factors found at 16 U.S.C. 1533(a).

We evaluated whether the information provided or cited in the petition met the ESA's standard for “substantial information.” After reviewing the information contained in the petition, as described above, as well as other scientific information readily available, we have determined that the petition presents substantial scientific information indicating that the petitioned action may be warranted.

We initiated a status review on March 29, 2006 (71 FR 14836), prior to receiving the petition. A status review is an evaluation of the available information about the biological vulnerability of a species, subspecies, or DPS. Information considered during a status review includes demographic information such as abundance, reproductive success, age structure, and distribution, and information provided in a petition for listing. A status review considers both historical and recent trends in these parameters, to the extent that this information is available. The status review must also evaluate current and potential threats facing the species and ongoing efforts to protect the species, subspecies, or DPS. We solicited information from the public to help us in evaluating the status of the Cook Inlet beluga whale when we announced the initiation of the status review (71 FR 14836; March 24, 2006).

Upon completion of the status review, and within 12 months of the petition, we must make one of the following findings: (1) The petitioned action is not warranted, in which case the Secretary shall promptly publish such finding in the Federal Register and so notify the petitioner; (2) the petitioned action is warranted, in which case the Secretary shall promptly publish in the Federal Register a proposed regulation to implement the action pursuant to 50 CFR 424.16; or (3) the petitioned action is warranted, but that (A) the immediate proposal and timely promulgation of a regulation to implement the petitioned action is precluded because of other pending proposals to list, delist, or reclassify species, and (B) expeditious progress is being made to list, delist, or reclassify qualified species, in which case such findings shall be promptly published in the Federal Register together with a description and evaluation of the reasons and data on which the finding is based.

Authority

The authority for this action is the ESA, as amended (16 U.S.C. 1531 et seq.).

Dated: August 1, 2006.
William Hogarth,
Assistant Administrator for Fisheries, National Marine Fisheries Service.

[FR Doc. E6-12754 Filed 8-4-06; 8:45 am]

BILLING CODE 3510-22-S